DEPARTMENT OF LABOR

Employment and Training Administration

[TA-W-65,419]

EDS, An HP Company, Project Management Delivery Division; Lansing, MI; Notice of Termination of Investigation

Pursuant to Section 221 of the Trade Act of 1974, as amended, an investigation was initiated on February 27, 2009 in response to a petition filed on behalf of workers of EDS, an HP Company, Project Management Delivery Division, Lansing, Michigan.

The petition has been deemed invalid. Two of the petitioners did not provide complete information. Consequently, the investigation has been terminated.

Signed at Washington, DC, this 16th day of March 2009.
Linda G. Poole,
Certifying Officer, Division of Trade Adjustment Assistance.

[FR Doc. E9-7111 Filed 3-30-09; 8:45 am]

BILLING CODE 4510-FN-P